DEPARTMENT OF ENERGY

Federal Energy Regulatory Commission

[FERC Docket No. CP01-422-000, CA State Clearinghouse No. 2001071035, BLM Reference No. CA-17918]

Kern River Gas Transmission Company; Notice of Intent/Preparation To Prepare a Joint Environmental Impact Statement/Report for the Proposed Kern River 2003 Expansion Project; Request for Comments on Environmental Issues and Notice of Public Scoping Meetings and Site Visit

August 20, 2001.

The staffs of the Federal Energy Regulatory Commission (FERC or Commission) and the California State Lands Commission (CSLC) will jointly prepare an environmental impact statement/report (EIS/EIR) that will discuss the environmental impacts of Kern River Gas Transmission Company's (KRGT) proposed Kern River 2003 Expansion Project in Wyoming, Utah, Nevada, and California.¹ The proposed facilities would consist of 634.3 miles of 36-inch-diameter pipeline, 82.4 miles of 42-inch-diameter pipeline, 0.8 mile of 12-inch-diameter pipeline, and 163,700 horsepower (hp) of additional compression. The FERC will use the EIS/EIR in its decision-making process to determine whether the project is in the public convenience and necessity. The CSLC will use the document to consider KRGT's application for leasing the State's School Lands for the pipeline.

¹ KRGT's application in Docket No. CP01-422-000 was filed with the FERC under Sections 7(b) and 7(c) of the Natural Gas Act and Part 157 of the FERC's regulations.

The FERC will be the lead Federal agency in the preparation of the EIS/EIR while the CSLC will be the State Lead Agency for California. The joint document, which will avoid much duplication of environmental analyses, will satisfy the requirements of both the National Environmental Policy Act (NEPA) and the California Environmental Quality Act (CEQA).

The proposed project would cross about 322.1 miles of Bureau of Land Management (BLM) land and 19.4 miles of the Dixie National Forest, which is under the jurisdiction of the Forest Service (FS). KRGT has filed a right-of-way application with the BLM and a special use permit application with the FS for the crossings of these Federal lands. As part of considering KRGT's applications, the BLM and the FS, Dixie National Forest have agreed to meet their NEPA responsibilities by participating as cooperating agencies in the preparation of the EIS/EIR.

This notice is being sent to landowners along KRGT's existing mainline and its proposed and alternative routes; Federal, state, and local government agencies; elected officials; environmental and public interest groups; Indian tribes that might attach religious and cultural significance to historic properties in the area of potential effect; local libraries and newspapers; other interested parties; and the FERC's official service list. Government representatives are encouraged to notify their constituents of this proposed action and encourage them to comment on their areas of concern. Additionally, with this notice we ² are asking other Federal, state, local, and tribal agencies with jurisdiction and/or special expertise with respect to environmental issues to cooperate with us in the preparation of the EIS/EIR. These agencies may choose to participate once they have evaluated KRGT's proposal relative to their responsibilities. Agencies who would like to request cooperating status should follow the instructions for filing comments described later in this notice.

² “We,” “us,” and “our” refer to the staffs of the FERC's Office of Energy Projects and the CSLC.

If you are a landowner receiving this notice, you may be contacted by a KRGT representative about the acquisition of an easement to construct, operate, and maintain the proposed facilities. The pipeline company would seek to negotiate a mutually acceptable agreement. However, if the project is approved by the FERC, that approval conveys with it the right of eminent domain. Therefore, if easement negotiations fail to produce an agreement, the pipeline company could initiate condemnation proceedings in accordance with applicable state laws in Wyoming, Utah, Nevada, and California.

A fact sheet prepared by the FERC entitled “An Interstate Natural Gas Facility on My Land? What Do I Need To Know?” should have been attached to the project notice KRGT provided to landowners. This fact sheet addresses a number of typically asked questions, including the use of eminent domain and how to participate in the FERC's proceedings. It is available for viewing on the FERC Internet website (http://www.ferc.gov).

Summary of the Proposed Project

KRGT proposes to build new natural gas pipeline and compression facilities to transport approximately 886 million cubic feet per day of natural gas from the Central Rocky Mountain region to customers in Nevada and California. The natural gas would primarily supply existing and new power generation markets. KRGT's proposed action consists of the construction and operation of:

• 634.3 miles of 36-inch-diameter pipeline in 11 loops ³ adjacent to KRGT's existing Opal Lateral and existing mainline in Wyoming (Lincoln and Uinta Counties), Utah (Summit, Morgan, Salt Lake, Utah, Juab, Millard, Beaver, Iron, and Washington Counties), Nevada (Lincoln and Clark Counties), and California (San Bernardino County);

³ A loop is a segment of pipeline that is usually installed adjacent to an existing pipeline and connected to it at both ends. The loop allows more gas to be moved through the system.

• 82.4 miles of 42-inch-diameter pipeline in one loop adjacent to the portion of KRGT's existing mainline that it jointly owns with Mojave Pipeline Company in California (San Bernardino and Kern Counties);

• 0.8 mile of 12-inch-diameter pipeline in Uinta County, Wyoming;

• Three new compressor stations, one each in Wyoming (Uinta County), Utah (Salt Lake County), and Nevada (Clark County) for a total of 60,000 hp of additional compression;

• Modifications to six existing compressor stations, one in Wyoming (Lincoln County), three in Utah (Utah, Millard, and Washington Counties), one in Nevada (Clark County), and one in California (San Bernardino County) for a total of 103,700 hp of additional compression;

• Modifications to one existing meter station in Wyoming (Lincoln County) and four existing meter stations in California (two each in San Bernardino and Kern Counties); and

• Various mainline block valves, pig ⁴ launcher/receiver facilities, and other appurtenances.

⁴ A pig is an internal tool used to inspect a pipeline for potential leaks or damage.

A general overview map of the major project facilities is shown on figure 1 in appendix 1.⁵ Maps of each loop and associated facilities are provided on figure 2 sheets 1 through 9 in appendix 1. More detailed maps and copies of KRGT's FERC application are available for review at the centrally located public libraries listed in appendix 2.

⁵ The appendices referenced in this notice are not being printed in the Federal Register. Copies are available on the FERC's website (http://www.ferc.gov) at the “RIMS” link or from the Commission's Public Reference and Files Maintenance Branch, 888 First Street, NE., Room 2A, Washington, DC 20426, or call (202) 208-1371. For instructions on connecting to RIMS, refer to page 12 of this notice. Copies of the appendices were sent to all those receiving this notice in the mail.

As shown on the figures in appendix 1, there are two segments of the existing mainline between Opal, Wyoming and Mojave, California that would not be looped by this project. These unlooped areas are a 28.1-mile-long segment in Davis County, Salt Lake City, Utah and a 26.1-mile-long segment in Clark County, Las Vegas, Nevada. No construction is proposed in these areas; however, the operating pressure of the existing KRGT mainline would be higher due to the increased throughput of natural gas associated with the proposed project.

The Kern River 2003 Expansion Project is scheduled to be in service in May 2003. KRGT is requesting approval to begin construction in June 2002. The approximate duration of construction would be 11 months.

Land Requirements for Construction

Construction of KRGT's proposed pipeline facilities would require about 10,211 acres of land including the construction right-of-way, temporary extra workspaces, and contractor/pipe yards. The nominal construction right-of-way for the pipeline would be 75 feet wide for 36-inch-diameter pipe and 80 feet wide for 42-inch-diameter pipe. Additional right-of-way width and temporary extra workspace would be required at certain feature crossings and areas requiring topsoil segregation and special construction techniques.

The pipeline loops would be generally installed at the edge of the existing permanent right-of-way using a standard 25-foot offset from the existing KRGT mainline. At certain locations (e.g., highway and waterbody crossings), a greater offset would be needed. In some areas, the proposed pipeline would deviate from the existing mainline right-of-way due to topographic or resource/land use constraints.

KRGT retains a 50-foot-wide permanent right-of-way for its existing mainline. Following construction of the proposed loops, KRGT would retain an additional 25-foot-wide new permanent right-of-way where the proposed pipeline is parallel to the existing pipeline. Where the proposed pipeline deviates from the existing mainline right-of-way, KRGT would retain a 50-foot-wide new permanent right-of-way. Total land requirements for the new permanent right-of-way would be approximately 2,435 acres.

KRGT proposes to acquire a total of about 81 acres of land for construction and operation of the new compressor stations. The modifications to the existing compressor and meter stations would be constructed within the existing facility sites, except for a 4-acre extra workspace that would be temporarily needed for one compressor station modification.

Mainline block valves would be installed within the permanent right-of-way at the beginning of each loop and at intermediate locations as necessary. The proposed mainline valves would be collocated with existing mainline valves and other aboveground facilities except in two locations. Pig launchers and receivers would be installed at the beginning and end points of each loop within other aboveground facility sites except in five locations. At each of these five locations, approximately 0.8 acre of land would be required for operation.

The EIS/EIR Process

NEPA requires the FERC to take into account the environmental impacts that could result from an action whenever it considers the issuance of a Certificate of Public Convenience and Necessity. The CSLC, as State Lead Agency for California, is required to consider the same potential impacts within the State of California under CEQA. The EIS/EIR we are preparing will give both the FERC and the CSLC the information we need to do that.

NEPA and CEQA also require us to discover and address concerns the public may have about proposals. We call this “scoping.” The main goal of the scoping process is to focus the analysis in the EIS/EIR on the important environmental issues and reasonable alternatives. All scoping comments received will be considered during the preparation of the EIS/EIR.

We began the scoping process for the Kern River 2003 Expansion Project on June 25-29, 2001. During that week, we met with agency representatives along the proposed pipeline route to discuss the project and allow them the opportunity to express issues and concerns that should be addressed in the EIS/EIR. After the agency scoping meetings, we provided a scoping summary document to the meeting participants.

On July 6, 2001, the CSLC issued a Notice of Preparation of a Draft EIR and Notice of Public Scoping Meeting (NOP). Issuance of the NOP opened a 30-day comment period for the CSLC to receive written comments on the scope and content of the environmental information and analysis that should be included in the EIR. The NOP announced a public scoping meeting in Barstow, California on August 2, 2001 that would also be used as the FERC's scoping meeting for the California portion of the proposed project. The comment period on the CSLC's NOP closed on August 6, 2001.

By this notice, we are requesting additional agency and public comments on the scope of the issues to be analyzed and presented in the EIS/EIR. If you provided comments on the agency scoping summary document discussed above or in response to the CSLC's NOP, you do not need to resubmit your comments.

Our independent analysis of the issues will be included in the Draft EIS/EIR. The Draft EIS/EIR will be mailed to Federal, state, and local government agencies; elected officials; environmental and public interest groups; Indian tribes; affected landowners; local libraries and newspapers; other interested parties; and the FERC's official service list for this proceeding. We will consider all comments on the Draft EIS/EIR and revise the document, as necessary, before issuing a Final EIS/EIR. The Final EIS/EIR will include our response to all comments received.

Currently Identified Environmental Issues

The EIS/EIR will discuss impacts that could occur as a result of the construction and operation of the proposed project. We have already identified a number of issues and alternatives that we think deserve attention based on a preliminary review of the proposed facilities, the environmental information provided by KRGT, and the scoping comments received to date. This preliminary list of issues and alternatives may be changed based on your comments and our additional analysis.

• Geology and Soils

—Assessment of potential geological hazards.

—Impact on mineral resources.

—Impacts resulting from blasting.

—Erosion and sedimentation control.

—Right-of-way restoration.

• Water Resources

—Impact on groundwater and surface water supplies.

—Impact on wetland hydrology.

—Effect of pipeline crossings on perennial and intermittent streams, canals, and washes.

—Assessment of special measures for the crossings of the Bear and Weber Rivers, and Yellow, Oak, Mogatsu, and Moody Creeks.

—Assessment of hydrostatic test water sources and discharge locations.

• Fish, Wildlife, and Vegetation

—Effect on coldwater and sensitive fisheries.

—Effect on wildlife resources and their habitat.

—Effect on big game crucial winter ranges and migration corridors.

—Effect on migratory birds.

—Assessment of construction time window restrictions.

—Effect on agave, cacti, yucca (including Joshua trees), and mesquite.

—Control of noxious weeds within the right-of-way.

—Assessment of measures to successfully revegetate the right-of-way.

• Endangered and Threatened Species

—Potential effect on nine federally listed or proposed species (including the desert tortoise) and one Federal candidate species (blue diamond cholla).

—Assessment of mitigation for impacts on the desert tortoise and its designated habitat.

—Potential effect on state-listed, BLM-designated, and FS-designated sensitive species (including sage grouse and raptors).

• Cultural Resources

—Assessment of survey methodologies.

—Effect on historic and prehistoric sites.

—Native American and tribal concerns.

• Paleontological Resources

—Effect on paleontological resources.

• Land Use, Recreation and Special Interest Areas, and Visual Resources

—Impacts on about 626.8 miles of rangeland.

—Permanent conversion of about 84.7 acres of land from rangeland to industrial use.

—Impact on 15 residences within 50 feet of the construction work area.

—Effect on about 391.4 miles of public land.

—Impact on special use areas, including the Dixie National Forest, Moapa River Indian Reservation, Red Rock Canyon National Conservation Area, Humboldt-Toiyabe National Forest/Spring Mountain National Recreation Area, and military bases.

—Evaluation of the project's consistency with regional and local land use management plans.

—Assessment of potential increased off-highway vehicle use in prohibited or environmentally sensitive areas.

—Visual impacts.

• Socioeconomics

—Effects on transportation and traffic.

—Effects of construction workforce demands on public services and temporary housing.

• Air Quality and Noise

—Effects on local air quality and noise environment from construction and operation of the proposed facilities.

—Evaluation of potential effect on Prevention of Significant Deterioration Class I areas.

• Reliability and Safety

—Assessment of hazards associated with natural gas pipelines.

• Alternatives

—Assessment of the use of existing systems to reduce or avoid environmental impacts.

—Assessment of the potential to add compression to eliminate or minimize pipeline construction.

—Evaluation of route alternatives at Cumberland Gap, Pinnacle Pass, the Mojave National Preserve, and Edwards Air Force Base.

—Identification of measures to lessen or avoid impacts on the various resource and special interest areas.

• Cumulative Impact

—Assessment of the effect of the proposed project when combined with other past, present, or future actions in the same region.

Public Participation

You can make a difference by providing us with your specific comments or concerns about the project. By becoming a commentor, your concerns will be addressed in the EIS/EIR and considered by the FERC, the CSLC, the BLM, and the FS. You should focus on the potential environmental effects of the proposal, alternatives to the proposal (including alternative locations and routes), and measures to avoid or lessen environmental impact. The more specific your comments, the more useful they will be. Please carefully follow these instructions to ensure that your comments are received in time and properly recorded:

• Send an original and two copies of your letter to: David P. Boergers, Secretary, Federal Energy Regulatory Commission, 888 First St., NE., Room 1A, Washington, DC 20426;

• Reference Docket No. CP01-422-000;

• Label one copy of your comments for the attention of the Gas Group 1;

• Mail your comments so that they will be received in Washington, DC on or before September 24, 2001.

Comments may also be filed electronically via the Internet in lieu of paper. See 18 CFR 385.2001(a)(1)(iii) and the instructions on the FERC's website under the “e-Filing” link.

• Send an additional copy of your letter to the following individual: Cy Oggins, California State Lands Commission, 100 Howe Ave., Suite 100 South, Sacramento, CA 95825.

Everyone who responds to this notice, responded to the CSLC's NOP, or provides comments throughout the EIS/EIR process will be retained on our mailing list. If you do not want to send comments at this time but still want to stay informed and receive copies of the Draft and Final EIS/EIR, you must return the Information Request (appendix 4). If you do not send comments or return the Information Request or the CSLC's form asking to remain on the mailing list, you will be taken off the mailing list.

Public Scoping Meetings and Site Visit

In addition to or in lieu of sending written comments, we invite you to attend the public scoping meetings that the FERC, the CSLC, and the BLM will conduct in the project area. All meetings will begin at 7 pm, and are scheduled as follows:

Date | Location
Monday, September 17, 2001 | Best Western Inn, 1601 Harrison Drive, Evanston, Wyoming, (307) 789-3770
Tuesday, September 18, 2001 | Crystal Inn, 2254 City Center Court, West Valley City, Utah, (801) 736-2000
Wednesday, September 19, 2001 | Best Western Paradise Inn, 1025 North Main Street, Fillmore, Utah, (435) 743-6895
Thursday, September 20, 2001 | Best Western Abbey Inn, 1129 South Bluff Street, Saint George, Utah, (435) 652-1234
Friday, September 21, 2001 | Clark County Government Center, ETD Room 3, 500 South Grand Central Parkway, Las Vegas, Nevada, (702) 455-3121

The public scoping meetings are designed to provide you with more detailed information and another opportunity to offer your comments on the proposed project. KRGT representatives will be present at the scoping meetings to describe their proposal. Interested groups and individuals are encouraged to attend the meetings and to present comments on the environmental issues they believe should be addressed in the EIS/EIR. A transcript of each meeting will be made so that your comments will be accurately recorded.

On the dates of the meetings, we will also be conducting limited site visits to the project area. Anyone interested in participating in the site visits may contact the FERC's Office of External Affairs identified at the end of this notice for more details and must provide their own transportation.

Becoming an Intervenor

In addition to involvement in the EIS/EIR scoping process, you may want to become an official party to the proceeding, known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 3). Only intervenors have the right to seek rehearing of the Commission's decision.

Affected landowners and parties with environmental concerns may be granted intervenor status upon showing good cause by stating that they have a clear and direct interest in this proceeding that would not be adequately represented by any other parties. You do not need intervenor status to have your environmental comments considered.

Availability of Additional Information

Additional information about the proposed project is available from Cy Oggins at the CSLC at (916) 574-1884, or on the CSLC website at http://www.slc.ca.gov, or from the FERC's Office of External Affairs at (202) 208-1088, or on the FERC website at http://www.ferc.gov using the “RIMS” link, select “Docket#” and follow the instructions (call (202) 208-2222 for assistance). Access to the texts of formal documents issued by the FERC with regard to these dockets, such as orders and notices, is also available on the FERC website using the “CIPS” link. For assistance with access to CIPS, the CIPS helpline can be reached at (202) 208-2474.

Information concerning the involvement of the BLM in the EIS/EIR process is available from Jerry Crockford, BLM Project Manager, at (505) 599-6333. Information concerning the involvement of the FS in the EIS/EIR process is available from David Swank, Environmental Studies Coordinator, at (435) 865-3231.

David P. Boergers,
Secretary.

[FR Doc. 01-21379 Filed 8-23-01; 8:45 am]

BILLING CODE 6717-01-P